FEDERAL MARITIME COMMISSION

Notice of Agreements Filed

The Commission hereby gives notice of the filing of the following agreements under the Shipping Act of 1984. Interested parties may submit comments on the agreements to the Secretary, Federal Maritime Commission, Washington, DC 20573, within twelve days of the date this notice appears in the Federal Register. Copies of the agreements are available through the Commission's Web site (www.fmc.gov) or by contacting the Office of Agreements at (202) 523-5793 or tradeanalysis@fmc.gov.

Agreement No.: 012288.

Title: Hoegh/NYK Atlantic Space Charter Agreement.

Parties: Hoegh Autoliners AS and Nippon Yusen Kaisha.

Filing Party: Joshua Stein, Esq.; Cozen O'Connor; 1627 I Street NW., Suite 1100; Washington, DC 20006.

Synopsis: The agreement would authorize the parties to charter space to each other in the trades between ports in Spain, Belgium, and Germany, on the one hand, and ports on the U.S. East and Gulf Coasts, on the other hand.

Agreement No.: 012289.

Title: Hanjin Shipping—Evergreen Line Slot Charter Agreement.

Parties: Hanjin Shipping Co., Ltd. and Evergreen Line Joint Service Agreement.

Filing Party: Paul M. Keane, Esq.; Cichanowicz, Callan, Keane, Vengrow & Textor, LLP; 61 Broadway, Suite 3000, New York, NY 10006-2802.

Synopsis: The agreement authorizes Hanjin to charter slots to Evergreen in the trade between Japan and the U.S. West Coast.

By Order of the Federal Maritime Commission.
Dated: July 25, 2014.
Karen V. Gregory,
Secretary.

[FR Doc. 2014-17939 Filed 7-29-14; 8:45 am]

BILLING CODE 6730-01-P